COMMISSION ON CIVIL RIGHTS

Notice of Public Briefing of the West Virginia Advisory Committee to the U.S. Commission on Civil Rights

AGENCY: Commission on Civil Rights.

ACTION: Notice of public briefing.

SUMMARY: Notice is hereby given, pursuant to the provisions of the rules and regulations of the U.S. Commission on Civil Rights (Commission) and the Federal Advisory Committee Act, that the West Virginia Advisory Committee (Committee) to the U.S. Commission on Civil Rights will hold a public briefing via Zoom. The purpose of the briefing is to hear testimony on the civil rights impacts that exclusionary and punitive disciplinary policies, practices and procedures may have on students of color, students with disabilities and LGBTQ+ students in in West Virginia public schools.

DATES: Thursday, May 11, 2023, from 3:00 p.m.-4:00 p.m. ET

ADDRESSES: The meeting will be held via Zoom.

Registration Link (Audio/Visual): https://www.zoomgov.com/j/1612272122.

Join by Phone (Audio Only): 1-833-435-1820 USA Toll-Free; Meeting ID: 161 227 2122#.

FOR FURTHER INFORMATION CONTACT: Ivy Davis, Director of Eastern Regional Office and Designated Federal Officer, at ero@usccr.gov or 1-202-376-7533.

SUPPLEMENTARY INFORMATION: ThisCommittee meeting is available to the public through the registration link above. Any interested member of the public may attend this meeting. Immediately after the briefing concludes the Committee Chair will recognize members of the public to make a brief statement to the Committee on the panel topic—not to exceed five minutes—as time allows. Per the Federal Advisory Committee Act, public minutes of these meetings will include a list of persons present at the meeting. If joining via phone, callers can expect to incur regular charges for calls initiated over wireless lines, according to their wireless plan. The Commission will not refund any incurred charges. Callers will incur no charge for calls they initiate over land-line connections to the toll-free telephone number. Closed captioning will be available for individuals who are deaf, hard of hearing, or who have certain cognitive or learning impairments.

Members of the public are entitled to submit written comments; the comments must be emailed within 30 days following the scheduled meeting. Please email written comments to t to Ivy Davis at and Sarah Villanueva at: ero@usccr.gov; svillanueva@usccr.gov. You may also call 1-202-376-7533.

Records generated from this meeting may be inspected and reproduced at the Regional Programs Coordination Unit Office, as they become available, both before and after the meeting. Records of the meetings will be available via www.facadatabase.gov under the Commission on Civil Rights, West Virginia Advisory Committee link. Persons interested in the work of this Committee are directed to the Commission's website, http://www.usccr.gov, or may contact the Regional Programs Coordination Unit at svillanueva@uscccr.gov.

Agenda

I. Welcome and Roll Call

II. Opening Remarks

III. Panelist Testimony

IV. Committee Q&A

V. Public Comment

VI. Closing Remarks

VII. Adjourn

Exceptional Circumstance: Pursuant to 41 CFR 102-3.150, the notice for this meeting is given fewer than 15 calendar days prior to the meeting as the Committee's project needs to reach completion before their term ends.

Dated: May 8, 2023.
David Mussatt,
Supervisory Chief, Regional Programs Unit.

[FR Doc. 2023-10136 Filed 5-11-23; 8:45 am]

BILLING CODE P